FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Federal Assistance for Offsite Radiological Emergency Planning.

Type of Information Collection: Extension of a currently approved collection.

OMB Number: 3067-0201.

Abstract: FEMA requires information from a commercial nuclear power plant licensee who seeks certification under Federal assistance, when a “decline or fail” situation exists at a commercial nuclear power plant site. The certification request is in the form of a letter from the licensee chief executive officer. When the licensee request federal facilities or resources, FEMA will notify the Nuclear Regulatory Commission (NRC) to request advice or assistance as to whether or not a the licensee made maximum use of its resources and is in compliance with federal regulations.

Affected Public: Business or other for-profit.

Number of Respondents: One.

Estimated Time per Respondent: 160 hours.

Estimated Total Annual Burden Hours: 160 hours.

Frequency of Response: As needed.

Comments: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Branch, Information Resources Management Division, Information Technology Services Directorate, Federal Emergency Management Agency, 500 C Street, SW., Room 316, Washington, DC 20472. Facsimile number (202) 646-3347, or e-mail InformationCollections@fema.gov.

Dated: October 31, 2002.
Edward W. Kernan,
Division Director, Information Resources Management Division, Information Technology Services Directorate.

[FR Doc. 02-28621 Filed 11-8-02; 8:45 am]

BILLING CODE 6718-01-P